DEPARTMENT OF ENERGY

Federal Energy Regulatory Commission

Notice of Meeting; Sunshine Act

April 13, 2006.

The following notice of meeting is published pursuant to section 3(a) of the government in the Sunshine Act (Pub. L. 94-409), 5 U.S.C. 552b:

Agency Holding Meeting: Federal Energy Regulatory Commission.

Date and Time: April 20, 2006, 10 a.m.

Place: Room 2C, 888 First Street, NE., Washington, DC 20426.

Status: Open.

Matters to be Considered: Agenda.

Note: Items listed on the agenda may be deleted without further notice.

FOR FURTHER INFORMATION CONTACT: Magalie R. Salas, Secretary, Telephone (202) 502-8400.

For a recording listing items stricken from or added to the meeting, call (202) 502-8627.

This is a list of matters to be considered by the Commission. It does not include a listing of all papers relevant to the items on the agenda; however, all public documents may be examined in the Public Reference Room.

Item No. | Docket No. | Company
ADMINISTRATIVE AGENDA
A-1 | AD02-1-000 | Agency Administrative Matters.
A-2 | AD02-7-000 | Customer Matters, Reliability, Security and Market Operations.
A-3 | AD06-3-000 | Energy Market Update.
ELECTRIC
E-1 | RM05-5-000 | Standards for Business Practices and Communication Protocols for Public Utilities.
E-2 | RM05-34-001 | Transactions Subject to FPA Section 203.
E-3 | ER05-1065-000 | Entergy Services, Inc.
E-4 | EL05-148-000 | PJM Interconnection, L.L.C.
| ER05-1410-000
E-5 | OMITTED
E-6 | ER06-666-000 | Midwest Independent Transmission System operator, Inc.
E-7 | ER06-674-000 | Conectiv Energy Supply, Inc.
E-8 | OMITTED
E-9 | EL06-52-000 | New York Power Authority v. Consolidated Edison Company of New York, Inc.
E-10 | EL05-103-000 | Northern Indiana Public Service Company v. Midwest Independent Transmission System Operator, Inc. and PJM Interconnection, L.L.C.
E-11 | ER03-1003-002 | Michigan Electric Transmission Company, LLC.
E-12 | ER03-622-000 | Capital Power, Inc.
| ER02-2001-005 | Electric Quarterly Reports.
| ER02-2338-000 | Energy Investments Management, Inc.
| ER04-683-000 | New Light Energy, LLC.
| ER03-101-000 | Preimer Energy Marketing L.L.C.
| ER02-1499-000 | Sprague Energy Corporation.
| ER02-1595-000 | TME Energy Services.
E-13 | EL05-147-000 | Milford Power Company, LLC v. ISO New England, Inc.
E-14 | RM04-12-001 | Regional Transmission Organizations Accounting and Financial Reporting.
E-15 | ER05-853-001 | San Diego Gas & Electric Company.
E-16 | EC05-110-001 | MidAmerican Energy Holdings Company, Scottish Power plc, PacifiCorp Holdings, Inc. and PacifiCorp.
E-17 | OMITTED
E-18 | ER04-691-065 | Midwest Independent Transmission System Operator.
E-19 | EL05-2-000 | Public Service Company of New Mexico.
| ER01-615-009
| ER01-615-010
| ER01-615-011
| ER96-1551-013
| ER96-1551-014
| ER96-1551-015
MISCELLANEOUS
M-1 | RM05-32-001 | Repeal of the Public Utility Holding Company Act of 1935 and Enactment of the Public Utility Holding Company Act of 2005.
M-2 | RM06-11-000 | Financial Accounting, Reporting and Records Retention Requirements Under the Public Utility Holding Company Act of 2005.
GAS
G-1 | OMITTED
G-2 | RP06-231-000 | Norstar Operating, LLC v. Columbia Gas Transmission Corporation.
G-3 | OMITTED
G-4 | RP00-107-009 | Williston Basin Interstate Pipeline Company.
G-5 | OMITTED
ENERGY PROJECTS—HYDRO
H-1 | P-12606-001 | Avista Corporation.
| P-2545-095
H-2 | P-77-144 | Pacific Gas and Electric Company.
H-3 | P-2210-128 | Appalachian Power Company.
H-4 | P-2100-138 | California Department of Water Resources.
H-5 | P-2082-041 | PacifiCorp.
H-6 | P-2082-040 | PacifiCorp.
ENERGY PROJECTS—CERTIFICATES
C-1 | CP06-32-000 | Maritimes & Northeast Pipeline, L.L.C.
C-2 | CP06-57-000 | El Paso Natural Gas Company.

Magalie R. Salas,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 06-3736 Filed 4-14-06; 11:14 am]

BILLING CODE 6717-01-P